DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed new information collection. In accordance with the Paperwork Reduction Act of 1995, this notice seeks comments concerning the use of a metropolitan firefighter demographic questionnaire to collect data to determine firefighter demographics of metropolitan fire departments. For the purposes of this study, metropolitan fire departments are defined as fire departments that have a minimum of 400 fully paid career firefighters. In addition to the 400 career firefighters, some of the metropolitan fire departments also have volunteer firefighters.

SUPPLEMENTARY INFORMATION: The U.S. Fire Administration (USFA) ¹ receives many requests from fire service organizations and the general public for information related to the demographics of firefighters, including gender, race and ethnicity breakdowns, and the number of firefighters holding chief officer and line officer positions. The USFA also has a need for this information to guide programmatic decisions, to ensure that the demographic make up of firefighters attending National Fire Academy training courses is comparable to that of fire departments across the United States, and to encourage and recruit women and minorities to join the fire service. Finally, recommendations for the creation of a fire department database included the collection of information related to demographics, capabilities and activities of fire departments. This recommendation came out of a Blue Ribbon Panel's review of the USFA—initiated by FEMA Director James Lee Witt in the spring of 1998. As a result of those recommendations, the USFA created the National Fire Department Census with which more than 24,500 fire departments have registered. As a continuation of this effort, USFA plans to look at a snapshot of the demographics of firefighters in metropolitan fire departments.

¹ The USFA is currently being transferred to the newly created Preparedness Directorate of the Department of Homeland Security. During this transition FEMA, also part of the Department of Homeland Security, will continue to support this program as the new Directorate stands up. Ultimately this data collection will be transferred to the Preparedness Directorate.

Collection of Information

Title: Metropolitan Firefighter Demographics Study.

Type of Information Collection: New Collection.

OMB Number: 1660-NW17.

Form Numbers: None.

Abstract: Data products and reports exist that contain fragmented or estimated information about firefighter demographics, but there is no single reference source today that aggregates this data to provide an accurate profile of firefighters on a per department basis. The USFA receives many requests for information related to firefighters, including gender, race and ethnicity, as well as the number of firefighters holding chief officer and line officer positions. The USFA is working to identify the demographic make up of metropolitan fire departments in the United States to provide input for program planning and to inform stakeholders of the demographic composition of firefighters. The database will be used by USFA to guide programmatic decisions and provide the Fire Service and the public with information about firefighter demographics at an aggregate level. Fire departments are able to complete the demographic firefighter questionnaire by filling out a paper form and faxing the completed form, or sending it in a return envelope.

Affected Public: Federal, State, local government, and career fire departments.

Estimated Total Annual Burden Hours: 39 Hours.

Annual Burden Hours
Project/activity (survey, form(s), focus group, worksheet, etc.) | Number of respondents (A) | Frequency of responses (B) | Burden hours per respondent (C) | Annual responses (A×B) | Total annual burden hours (A×B×C)
Questionnaire | 115 | 1 | .33 hrs (20 min) | 115 | 39
Total | 115 | 1 | .33 hrs | 115 | 39

Estimated Cost: The estimated costs to the government will be direct labor and associated overhead costs of $12,625. There would be no costs to the respondent other than the minimal direct labor cost of a single firefighter or emergency service worker taking a small amount of time to complete the firefighter demographic form and this would be applicable only to those fire departments and emergency service agencies employing career firefighters. The estimate of respondent costs for those career departments is computed as follows: Estimated number of forms multiplied by the national mean hourly rate of a firefighter of $18.95 multiplied by ⅓ (representing the estimated 20 minutes it takes to complete the firefighter demographic form). Using this equation, total estimated costs to respondents of $726.42 is derived (115 estimated firefighter demographic forms × $18.95 ×⅓ = 726.42). The average cost per firefighter demographic form is a minimal $6.32. The respondents are under no obligation to complete the form and may refuse to do so or stop at any time. As a result, the average cost to the respondent of $6.32 could easily not be incurred by refusing to fill out the firefighter demographic form.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 31, 2006.

ADDRESSES: Interested persons should submit written comments to Chief, Records Management Section, Information Resources Management Branch, Information Technology Services Division, Federal Emergency Management Agency, 500 C Street, SW., Room 316, Washington, DC 20472.

FOR FURTHER INFORMATION CONTACT: Contact Gayle Kelch, Statistician, United States Fire Administration, National Fire Data Center (301) 447-1154 for additional information. You may contact the Records Management Branch for copies of the proposed collection of information at facsimile number (202) 646-3347 or e-mail address: FEMA-Information-Collections@dhs.gov.

Dated: May 9, 2006.
Darcy Bingham,
Branch Chief, Information Resources Management Branch, Information Technology Services Division.

[FR Doc. E6-8250 Filed 5-26-06; 8:45 am]

BILLING CODE 9110-17-P